DEPARTMENT OF COMMERCE

National Oceanic and Atmospheric Administration

[I.D. 021607I]

Endangered Species; File No. 1547-01

AGENCY: National Marine Fisheries Service (NMFS), National Oceanic and Atmospheric Administration (NOAA), Commerce.

ACTION: Notice; application for permit modification; request for comments.

SUMMARY: Notice is hereby given that the New York State Department of Environmental Conservation (Kathryn Hattala, Principal Investigator), 21 South Putt Corners Road, New Paltz, NY 12561, has applied in due form for a permit modification to take shortnose sturgeon (Acipenser brevirostrum) for purposes of scientific research.

DATES: Written, telefaxed, or e-mail comments must be received on or before March 26, 2007.

ADDRESSES: The application and related documents are available for review upon written request or by appointment in the following offices:

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9328; fax (978)281-9394.

Written comments or requests for a public hearing on this modification should be mailed to the Chief, Permits, Conservation and Education Division, F/PR1, Office of Protected Resources, NMFS, 1315 East-West Highway, Room 13705, Silver Spring, MD 20910. Those individuals requesting a hearing should set forth the specific reasons why a hearing on this permit modification would be appropriate.

Comments may also be submitted by facsimile at (301)427-2521, provided the facsimile is confirmed by hard copy submitted by mail and postmarked no later than the closing date of the comment period.

Comments may also be submitted by e-mail to NMFS.Pr1Comments@noaa.gov. Include in the subject line of the e-mail comment the following document identifier: “File No. 1547-01.”

FOR FURTHER INFORMATION CONTACT: Malcolm Mohead or Brandy Hutnak, (301)713-2289.

SUPPLEMENTARY INFORMATION: The subject permit is requested under the authority of the Endangered Species Act of 1973, as amended (ESA; 16 U.S.C. 1531 et seq.) and the regulations governing the taking, importing, and exporting of endangered and threatened species (50 CFR parts 222-226).

Currently, the New York State Department of Environmental Conservation is authorized in Permit No. 1547 to conduct scientific research to evaluate seasonal movement of shortnose sturgeon in Haverstraw and Newburgh Bays of the Hudson River. A maximum of 500 adult and juvenile shortnose sturgeon can be captured with gill nets, measured, weighed, scanned for tags, PIT and Carlin tagged (if untagged), and released annually. The applicant now proposes to collect soft fin-ray tissue samples from all captured shortnose sturgeon. The goal of the additional research would be to document and map the genetic identity of shortnose sturgeon in the Hudson River. The modification would run concurrently with the original permit until October 31, 2011.

Dated: February 16, 2007.
P. Michael Payne,
Chief, Permits, Conservation and Education Division, Office of Protected Resources, National Marine Fisheries Service.

[FR Doc. E7-3149 Filed 2-22-07; 8:45 am]

BILLING CODE 3510-22-S